UNITED STATES POSTAL SERVICE BOARD OF GOVERNORS

Sunshine Act Meeting

DATE AND TIME: Tuesday, January 9, 2007, at 2 p.m.; and Wednesday, January 10, 2007, at 8:30 a.m. and 10:30 a.m.

PLACE: Washington, DC, at U.S. Postal Service Headquarters, 475 L'Enfant Plaza, SW., in the Benjamin Franklin Room.

STATUS: January 9—2 p.m.—Closed; January 10-8:30 a.m.—Open; January 10—10:30 a.m.—Closed.

MATTERS TO BE CONSIDERED:

Tuesday, January 9 at 2 p.m. (Closed)

1. Strategic Planning.

2. Rate Case Update.

3. Financial Update.

4. Labor Negotiations Update.

5. Personnel Matters and Compensation Issues.

6. Governors' Executive Session—Discussion of prior agenda items and Board Governance.

Wednesday, January 10 at 8:30 a.m. (Open)

1. Minutes of the Previous Meeting, December 5-6, 2006.

2. Remarks of the Postmaster General and CEO Jack Potter.

3. Committee Reports.

4. Consideration of Board Resolution on Capital Funding.

5. Consideration of Annual Report on Government in the Sunshine Act Compliance.

6. Consideration of Fiscal Year 2006 Comprehensive Statement on Postal Operations, including the Preliminary Fiscal Year 2008 Annual Performance Plan—GPRA.

7. Briefing on Mail Visibility, Seamless Acceptance and Payment.

8. Consideration of the Price of Semipostal Stamps.

9. Capital Investment—5,856 Carrier Route Vehicles.

10. Election of Chairman and Vice Chairman of the Board of Governors.

11. Tentative Agenda for the March 28-29, 2007, meeting in Washington, DC.

Wednesday, January 10 at 10:30 a.m. (Closed)—If Needed.

1. Continuation of Tuesday's closed session agenda.

Contact Person for More Information: Wendy A. Hocking, Secretary of the Board, U.S. Postal Service, 475 L'Enfant Plaza, SW., Washington, DC 20260-1000. Telephone (202) 268-4800.

Wendy A. Hocking,
Secretary.

[FR Doc. 07-82 Filed 1-8-07; 3:19 pm]

BILLING CODE 7710-12-M